DEPARTMENT OF STATE

[Public Notice: 12252]

Foreign Affairs Policy Board Meeting Notice

SUMMARY: The Department of State announces a meeting of the Foreign Affairs Policy Board to take place on December 7-8, 2023, at the Department of State, Washington, DC. The Foreign Affairs Policy Board will review and assess: Crisis in the Middle East; The International Dimensions of AI; New Perspectives on International Trade Policy; and The Global Migration Challenge.

FOR FURTHER INFORMATION CONTACT: Leslie Thompson at ThompsonL2@state.gov or 202-647-0531.

SUPPLEMENTARY INFORMATION: This meeting is in accordance with the Federal Advisory Committee Act, 5 U.S.C. 1001 et seq. Pursuant to section 10(d) of the Federal Advisory Committee Act and 5 U.S.C. 552b(c)(1), it has been determined that this meeting will be closed to the public as the Board will be reviewing and discussing matters properly classified in accordance with Executive Order 13526.

(Authority: 5 U.S.C. 1009 and E.O. 13526.)

Leslie Thompson,
Designated Federal Officer, Office of Policy Planning, Department of State.

[FR Doc. 2023-24091 Filed 10-31-23; 8:45 am]

BILLING CODE 4710-10-P